DEPARTMENT OF THE TREASURY

Office of Thrift Supervision

Submission for OMB Review; Comment Request

February 9, 2000.

The Office of Thrift Supervision (OTS) has submitted the following public information collection requirement(s) to OMB for review and clearance under the Paperwork Reduction Act of 1995, Public Law 104-13. Interested persons may obtain copies of the submission(s) by calling the OTS Clearance Officer listed. Send comments regarding this information collection to the OMB reviewer listed and to the OTS Clearance Officer, Office of Thrift Supervision, 1700 G Street, NW, Washington, DC 20552.

Dates: Submit written comments on or before March 17, 2000.

OMB Number: 1550—0061.

Form Number: Not applicable.

Type of Review: Regular renewal.

Title: Outside Borrowings.

Description: Information is collected from savings associations that do not meet capital requirements. These institutions must give 10 days prior notification before making long-term borrowings. Information submitted by the institution is used to monitor their safety and soundness.

Respondents: Savings and Loan Associations and Savings Banks.

Estimated Number of Responses: 1.

Estimated Burden Hours Per Response: 4 hours.

Frequency of Response: One submission per subject institution.

Estimated Total Reporting Burden: 4 hours.

Clearance Officer: Mary Rawlings-Milton, (202) 906-6028, Office of Thrift Supervision, 1700 Street, NW, Washington, DC 20552.

OMB Reviewer: Alexander Hunt, (202) 395-7860, Office of Management and Budget, Room 10202, New Executive Office Building, Washington, DC 20503.

John E. Werner,
Director, Information & Management Services Division.

[FR Doc. 00-3676 Filed 2-15-00; 8:45 am]

BILLING CODE 6720-01-P